DEPARTMENT OF HEALTH AND HUMAN SERVICES

Meeting Announcement for the Technical Advisory Panel on Medicare Trustee Reports

ACTION: Notice of public meeting.

SUMMARY: This notice announces the meeting dates for the Technical Advisory Panel on Medicare Trustee Reports on Tuesday, August 30, 2016 and Wednesday August 31, 2016 in Washington, DC.

DATES: The meeting will be held on Tuesday, August 30, 2016 from 10:00 a.m. to 5:00 p.m. and Wednesday August 31, 2016, from 9:00 a.m. to 4:00 p.m. Eastern Daylight Time (EDT) and it is open to the public.

ADDRESSES: The meeting will be held at the Herbert Humphrey Building 200 Independence Ave. SW., Washington, DC, 20201 Room 738G.3.

FOR FURTHER INFORMATION CONTACT: Dr. Donald Oellerich, Designated Federal Officer, at the Office of Human Services Policy, Assistant Secretary for Planning and Evaluation, U.S. Department of Health and Human Services, 200 Independence Ave. SW., Washington, DC 20201, (202) 690-8410.

SUPPLEMENTARY INFORMATION: I. Purpose: The Panel will discuss the long-term rate of change in health spending and may make recommendations to the Secretary on how the Medicare Trustees might more accurately estimate health spending in the short and long run. The Panel's discussion is expected to be very technical in nature and will focus on the actuarial and economic assumptions and methods by which Trustees might more accurately measure health spending. This Committee is governed by the provisions of the Federal Advisory Committee Act, as amended (5 U.S.C. App. 2, section 10(a)(1) and (a)(2)). The Committee is composed of 9 members appointed by the Assistant Secretary for Planning and Evaluation.

II. Agenda: The Panel will likely hear presentations from the HHS Office of the Actuary, the Department of the Treasury and the Office of the Assistant Secretary for Planning and Evaluation on issues they wish the panel to address. This may be followed by HHS staff presentations regarding long range growth, sustainability of provider payments under ACA and MACRA, methods for transitioning from short term (10 year) to long term (75 year) projections and methods and presentation of uncertainty in the report. After any presentations, the Panel will deliberate openly on the topics. Interested persons may observe the deliberations, but the Panel will not hear public comments during this time. The Panel will also allow an open public session for any attendee to address issues specific to the topic.

III. Meeting Attendance: The Tuesday, August 30, 2016 and Wednesday August 31, 2016 meetings are open to the public; however, in-person attendance is limited to space available. Priority to attend the meeting in-person will be given to those who pre-register.

Meeting Registration: The public may attend the meeting in-person. Space is limited and registration is required in order to attend in-person. Registration may be completed by emailing or faxing all the following information to Dr. Donald Oellerich at don.oellerich@hhs.gov or fax 202-690-6562:

Name.

Company name.

Postal address.

Email address.

If sign language interpretation or other reasonable accommodation for a disability is needed, please contact Dr. Oellerich, no later than August 24, 2016 by sending an email message to don.oellerich@hhs.gov or calling 202-690-8410.

Persons wishing to attend this meeting must register by following the instructions in the “Meeting Registration” section of this notice. A confirmation email will be sent to the registrants shortly after completing the registration process.

IV. Special Accommodations: Individuals requiring special accommodations must include the request for these services during registration.

V. Copies of the Charter: The Secretary's Charter for the Technical Advisory Panel on Medicare Trustee Reports is available upon from Dr. Donald Oellerich at don.oellerich@hhs.gov or by calling 202-690-8410.

Dated: August 10, 2016.
Kathryn E. Martin,
Acting Assistant Secretary for Planning and Evaluation.

[FR Doc. 2016-19731 Filed 8-17-16; 8:45 am]

BILLING CODE 4150-05-P